DEPARTMENT OF HEALTH AND HUMAN SERVICES

Health Resources and Services Administration

The Negotiated Rulemaking Committee on the Designation of Medically Underserved Populations and Health Professions Shortage Areas

AGENCY: Health Resources and Services Administration (HRSA), HHS.

ACTION: Notice of establishment.

Authority: The Negotiated Rulemaking Committee on the Designation of Medically Underserved Populations (MUPs) and Health Professions Shortage Areas (HPSAs) was specifically mandated by Section 5602 of Public Law 111-148, the Patient Protection and Affordable Care Act of 2010 (ACA). The Negotiated Rulemaking process is described at 5 U.S.C. 561-569, the Negotiated Rulemaking Act of 1990, Public Law 101-648. Each Negotiated Rulemaking Committee is also governed by the provisions of Public Law 92-463 (5 U.S.C., App.), which sets forth standards for the formation and use of advisory committees.

SUMMARY: Pursuant to Section 5602 of the ACA, HRSA plans to establish a comprehensive methodology and criteria for Designation of MUPs and Primary Care HPSAs [under Sections 330(b)(3) and 332 of the Public Health Service (PHS) Act, respectively], using a Negotiated Rulemaking process. To do this, HRSA announces the establishment of the Negotiated Rulemaking Committee on the Designation of Medically Underserved Populations and Health Professions Shortage Areas.

FOR FURTHER INFORMATION CONTACT: Andy Jordan, Senior Analyst, Office of Shortage Designation, Bureau of Health Professions; e-mail ajordan@hrsa.gov; telephone (301) 594-0197.

SUPPLEMENTARY INFORMATION: Section 5602 of the Patient Protection and Affordable Care Act of 2010 mandates the Negotiated Rulemaking Committee within the Department of Health and Human Services. To comply with the authorizing directive and guidelines under the Federal Advisory Committee Act (FACA), a charter has been filed with the Committee Management Secretariat in the General Services Administration (GSA), the appropriate committees in the Senate and U.S. House of Representatives, and the Library of Congress to establish the Advisory Board as a non-discretionary Federal advisory committee. The charter was filed on June 29, 2010.

Objectives and Scope of Activities

The purpose of the Negotiated Rulemaking Committee on Designation of MUPs and HPSAs is to provide advice and make recommendations to the Secretary of Health and Human Services, through the Administrator, Health Resources and Services Administration, with respect to developing a new rule containing a revised methodology, criteria and process for such designations.

Membership and Designation

The Committee shall be limited to 25 members, unless it is determined that a greater number of members is necessary for the functioning of the Committee or to achieve balanced membership, including the one Government employee representing HRSA/DHHS. A neutral facilitator, approved by the Committee, shall act as Chair. Members shall be chosen for their ability to represent the various interests that will be significantly affected by the rule, and/or for technical expertise related to indicators and methodologies potentially useful in defining medical underservice and health professions shortage. Members shall be invited to serve for the duration of the Committee.

Administrative Management and Support

HRSA will provide funding and administrative support for the Negotiated Rulemaking Committee to the extent permitted by law within existing appropriations. Management and oversight for support services provided to the Negotiated Rulemaking Committee will be provided by the Bureau of Health Professions, HRSA.

A copy of the Committee charter can be obtained from the designated contacts or by accessing the FACA database that is maintained by the GSA Committee Management Secretariat. The Web site for the FACA database is http://fido.gov/facadatabase/.

Dated: July 16, 2010.
Mary K. Wakefield,
Administrator.

[FR Doc. 2010-17837 Filed 7-21-10; 8:45 am]

BILLING CODE 4165-15-P